DEPARTMENT OF TRANSPORTATION

Federal Aviation Administration

14 CFR Part 39

[Docket No. FAA-2012-1288; Directorate Identifier 2012-NE-37-AD; Amendment 39-17403; AD 2013-06-06]

RIN 2120-AA64

Airworthiness Directives; General Electric Company Turbofan Engines

AGENCY: Federal Aviation Administration (FAA), DOT.

ACTION: Final rule.

SUMMARY: We are adopting a new airworthiness directive (AD) for General Electric Company (GE) CF34-8C and CF34-8E turbofan engines with certain part numbers (P/N) of operability bleed valves (OBV) installed. This AD was prompted by three failure events of ring lock fuel fittings on the OBV. Two of those events led to an engine fire. This AD requires the affected OBVs be removed from service and replaced with OBVs eligible for installation. We are issuing this AD to prevent failure of OBV ring lock fuel fittings, engine fuel leakage, uncontrolled fire, and damage to the airplane.

DATES: This AD is effective May 8, 2013.

ADDRESSES: For service information identified in this AD, contact General Electric Company, One Neumann Way, MD Y-75, Cincinnati, OH; phone: 513-552-2913; email: geae.aoc@ge.com; and Web site: www.GE.com. You may view the referenced service information at the FAA, Engine & Propeller Directorate, 12 New England Executive Park, Burlington, MA. For information on the availability of this material at the FAA, call 781-238-7125.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: John Frost, Aerospace Engineer, Engine & Propeller Directorate, FAA, 12 New England Executive Park, Burlington, MA 01803; phone: 781-238-7756; fax: 781-238-7199; email: john.frost@faa.gov.

SUPPLEMENTARY INFORMATION:

Discussion

We issued a notice of proposed rulemaking (NPRM) to amend 14 CFR part 39 to include an AD that would apply to the specified products. That NPRM published in the Federal Register on December 13, 2012 (77 FR 74125). That NPRM proposed to require the affected OBVs be removed from service and replaced with OBVs eligible for installation.

Comments

We gave the public the opportunity to participate in developing this AD. The following presents the comments received on the proposal and the FAA's response to each comment.

Request To Change “Operating Hours” to “Flight Hours”

American Eagle Airlines requested that we change “operating hours” to “flight hours” throughout the document. Airlines track the aircraft flight hours, but not the time that an engine operates while the aircraft is on the ground.

We agree. We changed the AD to use flight hours throughout the AD.

Request To Change the Compliance Time

General Electric Company requested that we simplify the compliance by only requiring the OBVs to be replaced within two years after the effective date of the AD.

We do not agree. The proposed AD compliance is substantiated by risk analysis to provide an acceptable level of safety during the control program. We did not change the AD.

In Support of the Proposed AD

The National Transportation Safety Board stated that it is in support of the proposed AD.

P/N Corrections

Since we issued the proposed AD (77 FR 74125, December 13, 2012), we discovered during a technical review while preparing to issue the final rule AD, that the OBV parts manufacturer approval (PMA) P/Ns listed in the proposed AD were incorrect. We corrected PMA P/Ns 392155-2, 392155-3, and 392155-4, to PMA P/Ns 3291552-2, 3291552-3, and 3291552-4, respectively.

Conclusion

We reviewed the relevant data, considered the comments received, and determined that air safety and the public interest require adopting the AD with the changes described previously. We also determined that these changes will not increase the economic burden on any operator or increase the scope of the AD.

Costs of Compliance

We estimate that this AD will affect 300 engines installed on airplanes of U.S. registry. We also estimate that it will take about two hours per engine to perform the actions required by this AD, and that the average labor rate is $85 per hour. Required parts will cost about $25,000 per engine. Based on these figures, we estimate the total cost of the AD to U.S. operators to be $7,551,000.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-06-06 General Electric Company: Amendment 39-17403; Docket No. FAA-2012-1288; Directorate Identifier 2012-NE-37-AD.

(a) Effective Date

This AD is effective May 8, 2013.

(b) Affected ADs

None.

(c) Applicability

This AD applies to General Electric Company (GE) CF34-8C1, CF34-8C5, CF34-8C5A1, CF34-8C5A2, CF34-8C5A3, CF34-8C5B1, CF34-8E2, CF34-8E2A1, CF34-8E5, CF34-8E5A1, CF34-8E5A2, CF34-8E6, and CF34-8E6A1 turbofan engines, with an operability bleed valve (OBV) part number (P/N) 4121T67P02, P/N 4121T67P03, P/N 4121T67P04, parts manufacturer approval (PMA) P/N 3291552-2, PMA P/N 3291552-3, or PMA P/N 3291552-4, installed.

(d) Unsafe Condition

This AD was prompted by three failure events of ring lock fuel fittings on the OBV. Two of those events led to an engine fire. We are issuing this AD to prevent failure of OBV ring lock fuel fittings, engine fuel leakage, uncontrolled fire, and damage to the airplane.

(e) Compliance

Comply with this AD within the compliance times specified, unless already done.

(f) Remove OBVs

(1) For OBVs with fewer than 6,000 flight hours since new on the effective date of this AD, remove the OBV from service before accumulating 12,000 flight hours since new, or within four years after the effective date of this AD, whichever occurs first.

(2) For OBVs with 6,000 or more flight hours since new on the effective date of this AD, remove the OBV from service before accumulating an additional 6,000 flight hours, or within two years after the effective date of this AD, whichever occurs first.

(g) Alternative Methods of Compliance (AMOCs)

The Manager, Engine Certification Office, FAA, may approve AMOCs for this AD. Use the procedures found in 14 CFR 39.19 to make your request.

(h) Related Information

(1) For more information about this AD, contact John Frost, Aerospace Engineer, Engine & Propeller Directorate, FAA, 12 New England Executive Park, Burlington, MA 01803; phone: 781-238-7756; fax: 781-238-7199; email: john.frost@faa.gov.

(2) Refer to GE Service Bulletin (SB) No. CF34-8C-AL S/B 75-0017, Revision 1, dated October 9, 2012, and SB No. CF34-8E-AL S/B 75-0012, Revision 1, dated October 9, 2012, for related information.

(3) For service information identified in this AD, contact General Electric Company, One Neumann Way, MD Y-75, Cincinnati, OH; phone: 513-552-2913; email: geae.aoc@ge.com; and Web site: www.GE.com. You may view the referenced service information at the FAA, Engine & Propeller Directorate, 12 New England Executive Park, Burlington, MA. For information on the availability of this material at the FAA, call 781-238-7125.

(i) Material Incorporated by Reference

None.

Issued in Burlington, Massachusetts, on March 21, 2013.
Robert J. Ganley,
Acting Manager, Engine & Propeller Directorate, Aircraft Certification Service.

[FR Doc. 2013-07510 Filed 4-2-13; 8:45 am]

BILLING CODE 4910-13-P